ENVIRONMENTAL PROTECTION AGENCY

[EPA-HQ-OPP-2018-0010; FRL-9987-70]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period of April 1, 2018 to September 30, 2018 to control unforeseen pest outbreaks.

FOR FURTHER INFORMATION CONTACT: Michael L. Goodis, Director Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2018-0010, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific. EPA has also listed denied emergency exemption requests in this notice.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U. S. States and Territories

Alabama

Department of Agriculture

Specific exemption: EPA authorized the use of flupyradifurone on a maximum of 500 acres of sweet sorghum (forage and syrup) to control sugarcane aphid. A time-limited tolerance in connection with this action has been established in 40 CFR 180.679(b). Effective May 14, 2018 to November 15, 2018.

Arizona

Department of Agriculture

Specific exemption: EPA authorized the use of sulfoxaflor on a maximum of 26,000 acres of sorghum (grain and forage) to control sugarcane aphid. A time-limited tolerance in connection with this action has been established in 40 CFR 180.668(b); Effective April 30, 2018 to November 30, 2018.

EPA authorized the use of sulfoxaflor on a maximum of 150,000 acres of cotton to control tarnished plant bug (Lygus spp.). A permanent tolerance in connection with an earlier registration action has been established in 40 CFR 180.668(a). Effective June 1, 2018 to October 31, 2018.

California

Department of Pesticide Regulation

Specific exemption: EPA authorized the use of sulfoxaflor on a maximum of 270,000 acres of cotton to control tarnished plant bug (Lygus spp.). A permanent tolerance in connection with an earlier registration action has been established in 40 CFR 180.668(a). Effective May 15, 2018 to October 31, 2018.

EPA authorized the use of methoxyfenozide on a maximum of 100,000 acres of rice to control armyworm (Mythimna unipuncta) and Western Yellowstriped Armyworm (Spodoptera praefica). A time-limited tolerance in connection with this action has been established in 40 CFR 180.544(b). Effective June 21, 2018 to October 4, 2018.

EPA authorized the use of bifenthrin on a maximum of 18,000 acres of pomegranates to control leaf-footed plant bugs. A time-limited tolerance in connection with this action has been established in 40 CFR 180.442(b); Effective August 21, 2018 to December 31, 2018.

Delaware

Department of Agriculture

Specific exemptions: EPA authorized the use of bifenthrin on a maximum of 415 acres of apple, peach, and nectarine to control the brown marmorated stinkbug. Time-limited tolerances in connection with past actions were established in 40 CFR 180.442(b); Effective May 11, 2018 to October 15, 2018.

EPA authorized the use of dinotefuran on a maximum of 415 acres of pome and stone fruit to control the brown marmorated stinkbug. Time-limited tolerances in connection with past actions were established in 40 CFR 180.603(b); Effective June 8, 2018 to October 15, 2018. The request was granted because an emergency condition exists with significant economic losses expected. Since this request proposed a use for which an emergency exemption has been requested for 5 or more previous years (and supported by the Interregional Research Project Number 4 (IR-4) program) and a registration application or tolerance petition has not been submitted to EPA, in accordance with the requirements at 40 CFR 166.24, a notice of receipt published in the Federal Register on May 7, 2018 (83 FR 20070) (FRL-9979-46) with the public comment period closing on May 22, 2018.

Georgia

Department of Agriculture

Specific exemption: EPA authorized the use of flupyradifurone on a maximum of 50,000 acres of sweet sorghum (forage and syrup) to control sugarcane aphid. A time-limited tolerance in connection with this action has been established in 40 CFR 180.679(b). Effective May 1, 2018 to December 1, 2018.

Illinois

Department of Agriculture

Specific exemption: EPA authorized the use of sulfoxaflor on a maximum of 23,000 acres of sorghum (grain and forage) to control sugarcane aphid. A time-limited tolerance in connection with this action has been established in 40 CFR 180.668(b); Effective July 17, 2018 to November 30, 2018.

Indiana

Office of the Indiana State Chemist

Specific exemption: EPA authorized the use of pyridate on a maximum of 11,200 acres of mint for postemergence control of herbicide-resistant annual weeds such as redroot pigweed, Armaranthus retroflexus and other broadleaf weeds. Tolerances in connection with an earlier registration action are established in 40 CFR 180.462(a). Effective May 18, 2018 to August 31, 2018.

Kentucky

Department of Agriculture

Specific exemption: EPA authorized the use of flupyradifurone on a maximum of 1,500 acres of sweet sorghum (forage and syrup) to control sugarcane aphid. A time-limited tolerance in connection with this action has been established in 40 CFR 180.679(b). Effective May 8, 2018 to November 15, 2018.

Maryland

Department of Agriculture

Specific exemptions: EPA authorized the use of bifenthrin on a maximum of 3,570 acres of apple, peach, and nectarine to control the brown marmorated stinkbug. Time-limited tolerances in connection with past actions were established in 40 CFR 180.442(b); Effective May 11, 2018 to October 15, 2018.

EPA authorized the use of dinotefuran on a maximum of 3,730 acres of pome and stone fruit to control the brown marmorated stinkbug. Time-limited tolerances in connection with past actions were established in 40 CFR 180.603(b); Effective June 8, 2018 to October 15, 2018. Since this request proposed a use for which an emergency exemption has been requested for 5 or more previous years (and supported by the IR-4 program) and a registration application or tolerance petition has not been submitted to EPA, in accordance with the requirements at 40 CFR 166.24, a notice of receipt published in the Federal Register on May 7, 2018 (83 FR 20070) (FRL-9979-46) with the public comment period closing on May 22, 2018.

Michigan

Department of Agriculture and Rural Development

Specific exemption: EPA authorized the use of pyridate on a maximum of 1,250 acres of mint for postemergence control of herbicide-resistant annual weeds such as redroot pigweed, Armaranthus retroflexus and other broadleaf weeds. Tolerances in connection with an earlier registration action are established in 40 CFR 180.462(a). Effective May 18, 2018 to August 31, 2018.

EPA authorized the use of dinotefuran on a maximum of 35,280 acres of pome and stone fruit to control the brown marmorated stinkbug. Time-limited tolerances in connection with past actions were established in 40 CFR 180.603(b); Effective June 8, 2018 to October 15, 2018. Since this request proposed a use for which an emergency exemption has been requested for 5 or more previous years (and supported by the IR-4 program) and a registration application or tolerance petition has not been submitted to EPA, in accordance with the requirements at 40 CFR 166.24, a notice of receipt published in the Federal Register on May 7, 2018 (83 FR 20070) (FRL-9979-46) with the public comment period closing on May 22, 2018.

Montana

Department of Agriculture

Specific exemption: EPA authorized the use of indaziflam in rangeland, pastures, and conservation reserve programs on a maximum of 55,000 acres to control Medusahead and Ventenata. Time-limited tolerances in connection with this action have been established in 40 CFR 180.653(b); Effective August 1, 2018 to August 1, 2019.

New Jersey

Department of Environmental Protection

Specific exemptions: EPA authorized the use of dinotefuran on a maximum of 8,100 acres of pome and stone fruit to control the brown marmorated stinkbug. Time-limited tolerances in connection with past actions were established in 40 CFR 180.603(b); Effective June 8, 2018 to October 15, 2018. Since this request proposed a use for which an emergency exemption has been requested for 5 or more previous years (and supported by the IR-4 program) and a registration application or tolerance petition has not been submitted to EPA, in accordance with the requirements at 40 CFR 166.24, a notice of receipt published in the Federal Register on May 7, 2018 (83 FR 20070) (FRL-9979-46) with the public comment period closing on May 22, 2018.

EPA authorized the use of bifenthrin on a maximum of 8,200 acres of apple, peach, and nectarine to control the brown marmorated stinkbug. Time-limited tolerances in connection with past actions were established in 40 CFR 180.442(b); Effective June 26, 2018 to October 15, 2018.

New Mexico

Department of Agriculture

Specific exemption: EPA authorized the use of sulfoxaflor on a maximum of 140,000 acres of sorghum (grain and forage) to control sugarcane aphid. A time-limited tolerance in connection with this action has been established in 40 CFR 180.668(b); Effective May 10, 2018 to November 30, 2018.

New York

Department of Environmental Conservation

Specific exemptions: EPA authorized the use of bifenthrin on a maximum of 7,321 acres of apple, peach, and nectarine to control the brown marmorated stinkbug. Time-limited tolerances in connection with past actions were established in 40 CFR 180.442(b); Effective July 6, 2018 to October 15, 2018.

North Carolina

Department of Agriculture and Consumer Services

Specific exemptions: EPA authorized the use of dinotefuran on a maximum of 4,000 acres of pome and stone fruit to control the brown marmorated stinkbug. Time-limited tolerances in connection with past actions were established in 40 CFR 180.603(b); Effective June 8, 2018 to October 15, 2018. Since this request proposed a use for which an emergency exemption has been requested for 5 or more previous years (and supported by the IR-4 program) and a registration application or tolerance petition has not been submitted to EPA, in accordance with the requirements at 40 CFR 166.24, a notice of receipt published in the Federal Register on May 7, 2018 (83 FR 20070) (FRL-9979-46) with the public comment period closing on May 22, 2018.

EPA authorized the use of sulfoxaflor on a maximum of 425,000 acres of cotton to control tarnished plant bug (Lygus spp.). A permanent tolerance in connection with an earlier registration action has been established in 40 CFR 180.668(a). Effective June 15, 2018 to October 30, 2018.

EPA authorized the use of bifenthrin on a maximum of 3,000 acres of apple, peach, and nectarine to control the brown marmorated stinkbug. Time-limited tolerances in connection with past actions were established in 40 CFR 180.442(b); Effective June 26, 2018 to October 15, 2018.

Specific exemption: EPA authorized the use of flupyradifurone on a maximum of 750 acres of sweet sorghum (forage and syrup) to control sugarcane aphid. A time-limited tolerance in connection with this action has been established in 40 CFR 166.20(b). Effective July 3, 2018 to November 15, 2018.

Oklahoma

Department of Agriculture

Specific exemption: EPA authorized the use of sulfoxaflor on a maximum of 300,000 acres of sorghum (grain and forage) to control sugarcane aphid. A time-limited tolerance in connection with this action has been established in 40 CFR 180.668(b); Effective April 10, 2018 to November 30, 2018.

EPA authorized the use of sulfoxaflor on a maximum of 700,000 acres of cotton to control tarnished plant bug (Lygus spp.). A permanent tolerance in connection with an earlier registration action has been established in 40 CFR 180.668(a). Effective May 29, 2018 to October 30, 2018.

Oregon

Department of Agriculture

Crisis exemption: EPA authorized the use of sulfoxaflor on a maximum of 7,000 acres of alfalfa grown for seed to control lygus bugs; Effective July 31, 2018 to August 14, 2018.

Pennsylvania

Department of Agriculture

Specific exemptions: EPA authorized the use of bifenthrin on a maximum of 24,974 acres of apple, peach, and nectarine to control the brown marmorated stinkbug. Time-limited tolerances in connection with past actions were established in 40 CFR 180.442(b); Effective May 11, 2018 to October 15, 2018.

EPA authorized the use of dinotefuran on a maximum of 24,974 acres of pome and stone fruit to control the brown marmorated stinkbug. Time-limited tolerances in connection with past actions were established in 40 CFR 180.603(b); Effective June 8, 2018 to October 15, 2018. Since this request proposed a use for which an emergency exemption has been requested for 5 or more previous years (and supported by the IR-4 program) and a registration application or tolerance petition has not been submitted to EPA, in accordance with the requirements at 40 CFR 166.24, a notice of receipt published in the Federal Register on May 7, 2018 (83 FR 20070) (FRL-9979-46) with the public comment period closing on May 22, 2018.

South Carolina

Department of Pesticide Regulation

Specific exemption: EPA authorized the use of sulfoxaflor on a maximum of 19,600 acres of sorghum (grain and forage) to control sugarcane aphid. A time-limited tolerance in connection with this action has been established in 40 CFR 180.668(b); Effective July 3, 2018 to November 30, 2018.

Texas

Department of Agriculture

Specific exemption: EPA authorized the use of clothianidin on a maximum of 4,000 acres of immature citrus trees to manage the transmission of Huanglongbing (HLB) disease vectored by the Asian citrus psyllid. A time-limited tolerance in connection with this action was established in 40 CFR 180.668(b); Effective May 1, 2018 to May 1, 2019.

Utah

Department of Agriculture

Specific exemption: EPA authorized the use of indaziflam in rangeland, pastures, and conservation reserve programs on a maximum of 10,000 acres to control Medusahead and Ventenata. Time-limited tolerances in connection with this action have been established in 40 CFR 180.653(b); Effective June 10, 2018 to June 9, 2019.

Virginia

Department of Agriculture and Consumer Services

Specific exemptions: EPA authorized the use of sulfoxaflor on a maximum of 16,591 acres of sorghum (grain and forage) to control sugarcane aphid. A time-limited tolerance in connection with this action has been established in 40 CFR 180.668(b); Effective April 4, 2018 to November 30, 2018.

EPA authorized the use of bifenthrin on a maximum of 29,000 acres of apple, peach, and nectarine to control the brown marmorated stinkbug. Time-limited tolerances in connection with past actions were established in 40 CFR 180.442(b); Effective May 11, 2018 to October 15, 2018.

EPA authorized the use of dinotefuran on a maximum of 29,000 acres of pome and stone fruit to control the brown marmorated stinkbug. Time-limited tolerances in connection with past actions were established in 40 CFR 180.603(b); Effective June 8, 2018 to October 15, 2018. Since this request proposed a use for which an emergency exemption has been requested for 5 or more previous years (and supported by the IR-4 program) and a registration application or tolerance petition has not been submitted to EPA, in accordance with the requirements at 40 CFR 166.24, a notice of receipt published in the Federal Register on May 7, 2018 (83 FR 20070) (FRL-9979-46) with the public comment period closing on May 22, 2018.

Washington

Department of Agriculture

Specific exemption: EPA authorized the use of lambda-cyhalothrin on a maximum of 7,000 acres of asparagus to control the European asparagus aphid. Due to the long (120-day) pre-harvest interval required and no detectable residues expected, time-limited tolerances were not required; Effective July 20, 2018 to October 30, 2018. The request was granted because an emergency condition exists with significant economic losses expected. Since this request proposed a use for which an emergency exemption has been requested for 5 or more previous years (and supported by the IR-4 program) and a registration application or tolerance petition has not been submitted to EPA, in accordance with the requirements at 40 CFR 166.24, a notice of receipt published in the Federal Register on June 28, 2018 (83 FR 30443) (FRL-9979-46) with the public comment period closing on July 13, 2018.

Wisconsin

Department of Agriculture

Specific exemption: EPA authorized the use of pyridate on a maximum of 3,100 acres of mint for postemergence control of herbicide-resistant annual weeds such as redroot pigweed, Armaranthus retroflexus and other broadleaf weeds. Tolerances in connection with an earlier registration action are established in 40 CFR 180.462(a). Effective May 18, 2018 to August 31, 2018.

West Virginia

Department of Agriculture

Specific exemptions: EPA authorized the use of dinotefuran on a maximum of 5,986 acres of pome and stone fruit to control the brown marmorated stinkbug. Time-limited tolerances in connection with past actions were established in 40 CFR 180.603(b); Effective June 8, 2018 to October 15, 2018. Since this request proposed a use for which an emergency exemption has been requested for 5 or more previous years (and supported by the IR-4 program) and a registration application or tolerance petition has not been submitted to EPA, in accordance with the requirements at 40 CFR 166.24, a notice of receipt published in the Federal Register on May 7, 2018 (83 FR 20070) (FRL-9979-46) with the public comment period closing on May 22, 2018.

EPA authorized the use of bifenthrin on a maximum of 5,986 acres of apple, peach, and nectarine to control the brown marmorated stinkbug. Time-limited tolerances in connection with past actions were established in 40 CFR 180.442(b); Effective June 26, 2018 to October 15, 2018.

Wyoming

Department of Agriculture

Specific exemption: EPA authorized the use of indaziflam on a maximum of 300,000 acres of rangeland, pastures, and areas subject to the conservation reserve program to control Medusahead and Ventenata. Time-limited tolerances in connection with this action have been established in 40 CFR 180.653(b); Effective September 14, 2019 to September 14, 2019.

B. Federal Departments and Agencies

Agriculture Department

Animal and Plant Health Inspector Service

Quarantine Exemptions: EPA authorized the use of acetic acid on nonporous surfaces to decontaminate from foot and mouth disease virus; Effective April 19, 2018 to April 19, 2021.

EPA authorized the use of sodium hypochlorite on porous and nonporous surfaces to decontaminate from viruses of foot and mouth disease, classical swine fever, and African swine fever; Effective September 17, 2018 to September 17, 2021.

EPA authorized the use of sodium hydroxide on nonporous surfaces to control prions; Effective September 25, 2018 to September 25, 2021.

EPA authorized the use of sodium hypochlorite on nonporous surfaces to control prions; Effective September 25, 2018 to September 25, 2021.

National Aeronautics and Space Administration

Specific exemption. EPA authorized use of ortho-phthalaldehyde, immobilized to a porous resin, to treat the International Space Station (ISS) internal active thermal control system (IATCS) coolant for control of aerobic and microaerophilic water bacteria and unidentified gram-negative rods. Effective May 31, 2018 to May 31, 2019. This request was granted because without this use, the ISS would have no means of controlling microorganisms in the IATCS because there are no registered alternatives available which meet the required criteria. Since this request proposed a use of a new (unregistered) chemical, in accordance with the requirements at 40 CFR 166.24, a notice of receipt published in the Federal Register on June 14, 2018 (83 FR 27766) (FRL-9978-55), with the public comment period eliminated since the time available for a decision on the application required it.

Authority: 7 U.S.C. 136 et seq.

Dated: December 21, 2018.
Donna S. Davis,
Acting Director, Registration Division, Office of Pesticide Programs.

[FR Doc. 2019-02354 Filed 2-13-19; 8:45 am]

BILLING CODE 6560-50-P